DEPARTMENT OF LABOR

Employment and Training Administration

[TA-W-57,995]

Hostmann-Steinberg, Pittsburgh Office, a Division of Hostmann-Steinberg North America, Pittsburgh, PA; Dismissal of Application for Reconsideration

Pursuant to 29 CFR 90.18(C) an application for administrative reconsideration was filed with the Director of the Division of Trade Adjustment Assistance for workers at Hostmann-Steinberg, Pittsburgh Office, a division of Hostmann-Steinberg North America, Pittsburgh, Pennsylvania. The application did not contain new information supporting a conclusion that the determination was erroneous, and also did not provide a justification for reconsideration of the determination that was based on either mistaken facts or a misinterpretation of facts or of the law. Therefore, dismissal of the application was issued.

TA-W-57,995; Hostmann-Steinberg, Pittsburgh Office, a Division of Hostmann-Steinberg North America, Pittsburgh, Pennsylvania (December 21, 2005)

Signed at Washington, DC this 22nd day of December 2005.
Erica R. Cantor,
Director, Division of Trade Adjustment Assistance.

[FR Doc. E5-8290 Filed 1-4-06; 8:45 am]

BILLING CODE 4510-30-P